DEPARTMENT OF COMMERCE

International Trade Administration

[A-552-801]

Certain Frozen Fish Fillets From the Socialist Republic of Vietnam: Initiation of Antidumping Duty New Shipper Review

AGENCY: Import Administration, International Trade Administration, Department of Commerce.

DATES: Effective Date: October 4, 2012.

SUMMARY: The Department of Commerce (“the Department”) has received a timely request for a new shipper review (“NSR”) of the antidumping duty order on certain frozen fish fillets (“fish”) from the Socialist Republic of Vietnam (“Vietnam”). The Department has determined that the request meets the statutory and regulatory requirements for initiation. The period of review (“POR”) for this NSR is August 1, 2011, through July 31, 2012.

FOR FURTHER INFORMATION CONTACT: Alexander Montoro, AD/CVD Operations, Office 9, Import Administration, International Trade Administration, U.S. Department of Commerce, 14th Street and Constitution Avenue NW., Washington, DC 20230; telephone: 202-482-0238.

SUPPLEMENTARY INFORMATION:

Background

The antidumping duty order on fish from Vietnam was published on August 12, 2003.¹ On August 31, 2012, pursuant to section 751(a)(2)(B)(i) of the Tariff Act of 1930, as amended (the “Act”), and 19 CFR 351.214, the Department received a NSR request from Golden Quality Seafood Corporation (“Golden Quality”).² The requesting company certified that it is a producer and exporter of the subject merchandise upon which the request was based.³

¹ See Notice of Antidumping Duty Order: Certain Frozen Fish Fillets From the Socialist Republic of Vietnam, 68 FR 47909 (August 12, 2003).

² See Request for New Shipper Review: Certain Frozen Fish Fillets from the Socialist Republic of Vietnam, dated Aug. 31, 2012.

³ See id. at 1.

Pursuant to section 751(a)(2)(B)(i)(I) of the Act and 19 CFR 351.214(b)(2)(i), the requesting company certified that it did not export subject merchandise to the United States during the period of investigation (“POI”).⁴ In addition, pursuant to section 751(a)(2)(B)(i)(II) of the Act and 19 CFR 351.214(b)(2)(iii)(A), the requesting company certified that, since the initiation of the investigation, it has never been affiliated with any Vietnamese exporter or producer who exported subject merchandise to the United States during the POI, including those respondents not individually examined during the investigation.⁵ As required by 19 CFR 351.214(b)(2)(iii)(B), the requesting company also certified that its export activities were not controlled by the central government of Vietnam.⁶

⁴ Id. at Ex. 1.

⁵ Id.

⁶ Id.

In addition to the certifications described above, pursuant to 19 CFR 351.214(b)(2)(iv), the requesting company submitted documentation establishing the following: (1) The date on which it first shipped subject merchandise for export to the United States; (2) the volume of its first shipment; and (3) the date of its first sale to an unaffiliated customer in the United States.⁷

⁷ Id. at Exs. 2-4; See also “Memorandum to the File, from Scot Fullerton, Program Manager, “Certain Frozen Fish Fillets from the Socialist Republic of Vietnam: Placing CBP data on the record,” dated concurrently with this notice.

Initiation of New Shipper Review

Pursuant to section 751(a)(2)(B) of the Act and 19 CFR 351.214(d)(1), and based on the documentation provided by Golden Quality, we find that the request submitted by Golden Quality meets the threshold requirements for initiation of the NSR for shipments of fish from Vietnam.⁸ The POR is August 1, 2011, through July 31, 2012.⁹ The Department intends to issue the preliminary results of this NSR no later than 180 days from the date of initiation, and the final results no later than 270 days from the date of initiation.¹⁰

⁸ See “Memorandum to the File, from Scot Fullerton, Program Manager, “Certain Frozen Fish Fillets from the Socialist Republic of Vietnam: New Shipper Initiation Checklists,” dated concurrently with this notice.

⁹ See 19 CFR 351.214(g)(1)(i)(A).

¹⁰ See section 751(a)(2)(B)(iv) of the Act.

We will instruct U.S. Customs and Border Protection (“CBP”) to allow, at the option of the importer, the posting, until the completion of the review, of a bond or security in lieu of a cash deposit for each entry of the subject merchandise from the requesting company in accordance with section 751(a)(2)(B)(iii) of the Act and 19 CFR 351.214(e). Because Golden Quality certified that it both produced and exported the subject merchandise, the sale of which is the basis for the new shipper review request, we will instruct CBP to permit the use of a bond only for subject merchandise which Golden Quality both produced and exported.

Interested parties requiring access to proprietary information in this NSR should submit applications for disclosure under administrative protective order, in accordance with 19 CFR 351.305 and 19 CFR 351.306.

This initiation and notice are in accordance with section 751(a)(2)(B) of the Act, 19 CFR 351.214, and 19 CFR 351.221(c)(1)(i).

Dated: September 21, 2012.
Gary Taverman,
Senior Advisor for Antidumping and Countervailing Duty Operations.

[FR Doc. 2012-24547 Filed 10-3-12; 8:45 am]

BILLING CODE 3510-DS-P